SPECIAL INSPECTOR GENERAL FOR IRAQ RECONSTRUCTION

5 CFR Chapter LXXXII

Removal of Standards of Ethical Conduct Regulations

AGENCY: Special Inspector General for Iraq Reconstruction.

ACTION: Final rule.

SUMMARY: On September 22, 2010, the Special Inspector General for Iraq Reconstruction (SIGIR), with the concurrence of the Office of Government Ethics (OGE), issued a final rule for employees of the SIGIR that supplemented the executive-branch-wide Standards of Ethical Conduct (Standards) issued by OGE. With certain exceptions, this supplemental regulation, required SIGIR employees, except special Government employees, to obtain approval before engaging in outside employment. This is the only rule SIGIR has published in the Federal Register and codified in the Code of Federal Regulations. The SIGIR is due to terminate its operations on September 30, 2013. Accordingly, there is no need for this Chapter or any SIGIR regulation in the Code of Federal Regulations (CFR) after that date because SIGIR will not exist and will therefore have no employees subject to this rule.

DATES: This rule is effective on September 30, 2013.

FOR FURTHER INFORMATION CONTACT: Michael H. Mobbs, Deputy General Counsel, Telephone- 703-604-0429; email- michael.h.mobbs2.civ@mail.mil.

SUPPLEMENTARY INFORMATION:

Background

SIGIR's enabling legislation, Public Law 108-106, 5 U.S.C. app 8G note, as amended, at section 3001(o), requires SIGIR to terminate within 180 days after the date on which amounts appropriated or otherwise made available for the reconstruction of Iraq that are unexpended are less than $250,000,000. SIGIR has determined this date to be September 30, 2013. Accordingly, this issuance removes SIGIR's rule and existing text from the Federal Register.

The SIGIR is due to terminate its operations on September 30, 2013. Accordingly, there is no need for this Chapter or any SIGIR regulation in the Code of Federal Regulations (CFR) after that date because SIGIR will not exist and will therefore have no employees subject to this CFR chapter.

Administrative Procedure Act

Pursuant to 5 U.S.C. 553(b) SIGIR finds good cause exists for waiving the general notice of proposed rulemaking and opportunity for public comment as to this rule.

Notice and comment before the effective date are being waived because this rule concerns matters of agency organization, practice and procedure.

Executive Orders 12866 and 12988

Because this rule relates to SIGIR personnel, it is exempt from the provisions of Executive Orders Nos. 12866 and 12988.

Regulatory Flexibility Act

SIGIR has determined, pursuant to the Regulatory Flexibility Act, 5 U.S.C. chapter 6, that this rulemaking will not have a significant economic impact on a substantial number of small entities because it primarily affects SIGIR employees.

Paperwork Reduction Act

The Paperwork Reduction Act, 44 U.S.C. chapter 35, does not apply because this rulemaking does not contain information collection requirements subject to the approval of the Office of Management and Budget.

Congressional Review Act

SIGIR has determined that this rule is not a rule as defined in 5 U.S.C. 804, and thus, does not require review by Congress.

List of Subjects in 5 CFR Part 9201

Conflict of interests, Government employees.

Accordingly, for the reasons set forth in the preamble, under the authority of 5 CFR 2635.105 and the agency's general rulemaking authority, the Special Inspector General for Iraq Reconstruction, with the concurrence of the Office of Government Ethics, is amending title 5 of the Code of Federal Regulations by removing chapter LXXXII, consisting of part 9201.

Dated: September 3, 2013.
Stuart W. Bowen, Jr.
Special Inspector General for Iraq Reconstruction.

[FR Doc. 2013-21770 Filed 9-9-13; 8:45 am]

BILLING CODE 3710-8N-P